DEPARTMENT OF HOUSING AND URBAN DEVELOPMENT

[Docket No. FR-4455-N-02]

Notice of Annual Factors for Determining Public Housing Agency Ongoing Administrative Fees for the Section 8 Housing Choice Voucher Program and the Rental Certificate and Moderate Rehabilitation Programs

AGENCY: Office of the Assistant Secretary for Public and Indian Housing, HUD.

ACTION: Notice.

SUMMARY: This notice announces the monthly per unit fee amounts for use in determining the on-going administrative fee for public housing agencies (PHAs) administering the Section 8 housing choice voucher program, and the rental certificate and moderate rehabilitation programs (including Single Room Occupancy and Shelter Plus Care) during Federal Fiscal Year (FY) 2000.

EFFECTIVE DATE: This notice is effective upon publication. HUD will use the procedures in this Notice to approve year-end financial statements for PHA fiscal years ending on December 31, 1999; March 31, 2000; June 30, 2000; and September 30, 2000. PHAs also must use these procedures to project earned administrative fees in the annual PHA budget. The procedures in this Notice apply to on-going administrative fees earned for that portion of the PHA fiscal year that falls in Federal FY 2000 (i.e., from October 1, 1999, to September 30, 2000).

FOR FURTHER INFORMATION CONTACT: Gerald J. Benoit, Director, Real Estate and Housing Performance Division, Office of Public and Assisted Housing Delivery, Office of Public and Indian Housing, Department of Housing and Urban Development, Room 4210, 451 Seventh Street, SW, Washington, DC 20410-8000; telephone number (202) 708-0477 (this is not a toll-free telephone number). Hearing or speech impaired individuals may access this number via TTY by calling the toll-free Federal Information Relay Service at 1-800-877-8339.

SUPPLEMENTARY INFORMATION:

I. Statutory Background

HUD pays administrative fees to PHAs for the costs of administering the on-going Section 8 housing choice voucher program and the rental certificate and moderate rehabilitation programs, including the Single Room Occupancy and Shelter Plus care components. Section 202 of the Departments of Veterans Affairs and Housing and Urban Development, and Independent Agencies Appropriations Act, 1997 (Pub. L. 104-204, 110 Stat. 2874, approved September 26, 1996) established the procedures for calculating these administrative fees before Federal FY 1999. The procedures were superseded by subsection 8(q) of the United States Housing Act of 1937 (42 U.S.C. 1437f(q)), as amended by section 547 of the Quality Housing and Work Responsibility Act of 1998 (Pub. L. 105-276, 112 Stat. 2461, approved October 21, 1998) (QHWRA). Specifically, QHWRA raised the percentage (from 7.5 percent to 7.65 percent) of the “base amount” used for calculating the administrative fees for the first 600 units in a PHA's Section 8 programs. The Department of Veterans Affairs and Housing and Urban Development and Independent Agencies FY 2000 Appropriations Act (Pub. L. 106-74, Stat. 2684, approved October 20, 1999) provided that the administrative fee authorized under section 8(q) of United States Housing Act of 1937, as amended by QHWRA October 21, 1998, shall be as was in effect immediately before the enactment of the QHWRA of 1998. This reduced the percent used for calculating the administrative fees for the first 600 units in a PHA's Section 8 program from 7.65 percent to 7.5 percent.

This notice announces the monthly per unit fee amounts for use in determining the on-going administrative fee for PHAs administering the Section 8 housing choice voucher program and the rental certificate and moderate rehabilitation programs (including Single Room Occupancy and Shelter Plus Care) during FY 2000, and describes the methodology for calculating the administrative fees.

A PHA may have its Section 8 on-going administrative fee reduced for failure to report the percent of its program participants to the Multifamily Tenant Characteristics System as required by HUD. PIH Notice 99-2(PHA), currently requires PHAs to report for 85 percent of its program participants at the end of June and December.

II. Calculating the On-Going Monthly Administrative Fee

(a) Administrative Fee. A public housing agency is paid an on-going administrative fee for each unit month for which a dwelling unit is covered by a housing assistance payments contract. Under the system for FY 2000, the on-going monthly administrative fee is:

• 7.5 percent of the “base amount” for the first 600 units in a PHA's housing choice voucher and rental certificate programs combined, and for the first 600 units in a PHA's moderate rehabilitation program.

• 7.0 percent of the “base amount” for each additional housing choice voucher, rental certificate, or moderate rehabilitation unit above the 600-unit threshold.

• 3.0 percent of the “base amount” will be allowed for PHA-owned units.

(b) The Base Amount. The “Base Amount” is the higher of:

1. The FY 1993 fair market rent for a two-bedroom unit in the PHA's market area; or

2. The FY 1994 fair market rent for a two-bedroom unit, but not more than 103.5 percent of the FY 1993 fair market rent.

Note: The base amount is adjusted annually to reflect average local government wages as measured by the most recent Bureau of Labor Statistics data on local government wages (the ES-202 series).

(c) Special Fees.

1. Preliminary Fees. HUD may pay preliminary fees up to $500 per unit for preliminary expenses to PHAs only in the first year the PHA administers a tenant-based assistance program, and only if the first year of administering the Section 8 program was begun prior to October 21, 1998. Unless requested by HUD, the PHA is not required to submit its justification for claimed preliminary fees to HUD. The justifications for preliminary fees must be kept on file and must be available to the HUD Field Office upon request.

2. Hard to House Fee. HUD may pay a special fee for costs incurred in assisting families who experience difficulty, as determined by the Secretary, in obtaining appropriate housing under the Section 8 programs.

3. Fee for Extraordinary Costs. HUD may pay a special one time fee for extraordinary costs incurred by the PHA in the operation of the Section 8 program, as approved by the Secretary.

4. Housing Conversion Actions. HUD may pay a special fee for costs incurred by the PHA for housing conversion actions associated with the administration of certain types of “special purpose” tenant-based assistance. The amount of such fee cannot exceed $250. The following are housing conversion actions: (a) preservation; (b) mortgage prepayment or voluntary termination actions; (c) opt-out; (d) HUD enforcement action; and (e) HUD property disposition actions. (See PIH Notice 99-40 for information on the availability of the new special fee to reimburse PHAs for housing conversion action costs incurred.)

III. Published Fee Amounts

HUD has attached a schedule of monthly per unit fee amounts for use by HUD and PHAs when preparing and approving PHA budgets and fiscal year-end financial statements. The tables are organized by the HUD-established fair market rent areas and show the monthly fee amounts a PHA will earn for each unit under a housing assistance payments contract on the first day of the applicable month.

(a) Column A: Fees for 600 Units or Less. The amount in column A is the monthly per unit fee amount to be applied for up to the first 600 units (or 7,200 unit months) in FY 2000 in a PHA's rental certificate and housing choice voucher programs combined (not including any PHA-owned units). The 7,200 unit month figure is determined by multiplying 600 (the maximum number of units) by 12 (the number of months in one year). The amount in column A is also used for the first 7,200 unit months in FY 2000 in a PHA's moderate rehabilitation program, including the moderate rehabilitation single room occupancy program and the shelter plus care single room occupancy program (not including any PHA-owned units).

The monthly per unit fee is computed by multiplying the number of unit months that were under a housing assistance payments contract during FY 2000 by the monthly per unit fee amount in column A (up to a maximum of 7,200 unit months during FY 2000). The maximum number of unit months for which the column A fee amount may be used depends on the PHA fiscal year end. Based on the applicable fiscal year end, a PHA must use the following number of unit months to calculate its ongoing administrative fee for FY 2000:

PHA fiscal year end | Maximum number of unit months
December 31, 1999 | Up to 1,800 unit months.
March 31, 2000 | Up to 3,600 unit months.
June 30, 2000 | Up to 5,400 unit months.
September 30, 2000 | Up to 7,200 unit months.

(b) Column B: Fees for Unit Months in Excess of the Column A Unit Months. Column B must be used to determine the monthly per unit fee amount for any unit months in FY 2000 in excess of the number of unit months specified in the above matrix, depending on the PHA's fiscal year end (not including any PHA-owned units). The excess unit months, based on the PHA's fiscal year end and the number of housing choice voucher, rental certificate and moderate rehabilitation units under housing assistance payment contracts during FY 2000, are multiplied by the monthly per unit fee amount in column B.

(c) Column C: Fees for PHA-Owned Units. The monthly per unit fee amount in column C will be multiplied by the number of unit months available for the housing choice voucher, rental certificate, and moderate rehabilitation units owned by the HA and that are under housing assistance payments contracts during FY 2000. Column A and column B fee amounts are not used for PHA-owned units.

(d) Fees for Unit Under Portability. The on-going fee amounts used for reimbursing receiving PHAs for all portable units will be determined by using the monthly per unit on-going administrative fee amounts in column B for the initial PHA.

(e) Future year publication date. For subsequent fiscal years, HUD will publish an annual notice in the Federal Register establishing the monthly per unit fee amounts for use in determining the on-going administrative fees for PHAs operating the housing choice voucher program and the rental certificate and moderate rehabilitation programs in each metropolitan and each non-metropolitan fair market rent area for that Federal fiscal year. The annual change in the per-unit-month fee amounts will be based on changes in wage data or other objectively measurable data, as determined by HUD, that reflect the costs of administering the program.

The amounts shown on the attached schedule do not reflect the authority given to HUD to increase the fee if necessary to reflect extraordinary expenses such as the higher costs of administering small programs and programs operating over large geographic areas or expenses incurred because of difficulties some categories of families are having in finding appropriate housing. HUD will consider HA requests for such increased administrative fees. Furthermore, the amounts shown do not include preliminary fees.

IV. Findings and Certifications

Paperwork Reduction Act Statement

The information collection requirements contained in this notice have been approved by the Office of Management and Budget (OMB) under the Paperwork Reduction Act of 1995 (44 U.S.C. 3501-3520), and have been assigned OMB control number 2577-0149. An agency may not conduct or sponsor, and a person is not required to respond to, a collection of information unless the collection displays a valid control number.

Environmental Impact

In accordance with 24 CFR 50.19(c)(6) of the HUD regulations, the policies and procedures contained in this notice set forth rate determinations and related external administrative requirements and procedures which do not constitute a development decision that affects the physical condition of specific project areas or building sites, and therefore are categorically excluded from the requirements of the national Environmental Policy Act.

Executive Order 13132, Federalism

The General Counsel, as the Designated Official under section 6(a) of Executive Order 13132, Federalism, has determined that the policies contained in this notice will not have substantial direct effects on States or their political subdivisions, or the relationship between the Federal government and the States, or on the distribution of power and responsibilities among the various levels of government. As a result, the notice is not subject to review under the Order. This notice pertains to the determination of administrative fees for HAs administering the housing choice voucher program and the rental certificate and moderate rehabilitation programs during FY 1999, and does not substantially alter the established roles of the Department, the States, and local governments.

Catalog of Federal Domestic Assistance Number

The Catalog of Federal Domestic Assistance Number for this program is 14.850.

Dated: February 11, 2000.
Harold Lucas,
Assistant Secretary for Public and Indian Housing.

BILLING CODE 4210-33-P

[FR Doc. 00-4311 Filed 2-24-00; 8:45 am]

BILLING CODE 4210-33-C